DEPARTMENT OF DEFENSE

Department of the Army, Corps of Engineers

33 CFR Part 334

Restricted Areas at Cape Canaveral Air Force Station, Patrick AFB, FL

AGENCY: United States Army Corps of Engineers, Department of Defense.

ACTION: Correcting amendments.

SUMMARY: The U.S. Army Corps of Engineers (Corps) published a document in the Federal Register on July 23, 2009 (74 FR 36400), revising the restricted areas at Cape Canaveral Air Force Station, Patrick Air Force Base (AFB), Florida. The revision included the establishment of a restricted area within the waters of the Atlantic Ocean offshore of the Cape Canaveral Air Force Station. The regulation included information regarding the boundaries of the new restricted area, including a reference to the offshore (eastern) boundary as being 1.5 miles offshore of the mean high water line. The final rule did not reference the type of mile unit to be used for the boundary line of the restricted area. The intent was to use nautical miles as the unit type. Since the use of nautical miles changes the coordinates for the northeast and southeast corner points of the restricted area, we are also correcting those coordinates. This document corrects the final regulation by revising this section.

DATES: Effective date: November 16, 2009.

FOR FURTHER INFORMATION CONTACT: Mr. David Olson, Headquarters, Operations and Regulatory Community of Practice, Washington, DC at 202-761-4922 or Mr. Jon Griffin, U.S. Army Corps of Engineers, Jacksonville District, Regulatory Division at 904-232-1680.

SUPPLEMENTARY INFORMATION: On July 23, 2009 (74 FR 36400), the Corps published a document in the Federal Register establishing a new restricted area at Cape Canaveral Air Force Station, Patrick AFB, Florida. Section 334.595(a) of the final rule did not specify the type of mile unit to use to define the area. Nautical miles are to be used to define this restricted area. Since the use of nautical miles changes the coordinates for the northeast and southeast corner points of this restricted area, we are also correcting those coordinates. In § 334.595(a) the coordinates of the northeast and southeast corner points of the restricted area are latitude 28°35.716′ N, longitude 80°32.938′ W and latitude 28°24.187′ N, longitude 80°33.443′ W, respectively.

List of Subjects in 33 CFR Part 334

Danger zones, Navigation (water), Restricted areas, Waterways.

Accordingly, 33 CFR part 334 is corrected by making the following correcting amendments:

PART 334—DANGER ZONE AND RESTRICTED AREA REGULATIONS

1. The authority citation for part 334 continues to read as follows:

Authority: 40 Stat. 266 (33 U.S.C. 1) and 40 Stat. 892 (33 U.S.C. 3).

2. Revise paragraph (a) of § 334.595 to read as follows:

§ 334.595 Atlantic Ocean off Cape Canaveral; 45th Space Wing, Cape Canaveral Air Force Station, FL.; Restricted Area.

(a) The area. The restricted area shall encompass all navigable waters of the United States, as defined at 33 CFR part 329, contiguous to the area offshore of Cape Canaveral Air Force Station, Florida. The area is bounded by a line connecting the following coordinates: Commencing from the shoreline at the northwest portion of the area, at latitude 28°35.008′ N, longitude 80°34.448′ W, thence directly to latitude 28°35.716′ N, longitude 80°32.938′ W, thence following the mean high water line at a distance of 1.5 nautical miles offshore proceed southerly to a point at latitude 28°24.187′ N, longitude 80°33.443′ W, thence proceeding westerly to terminate at a point on the shoreline at latitude 28°24.69′ N, longitude 80°35.05′ W.

* * * * *

Dated: November 5, 2009.
Michael G. Ensch,
Chief, Operations, Directorate of Civil Works.

[FR Doc. E9-27487 Filed 11-13-09; 8:45 am]

BILLING CODE 3720-58-P